ENVIRONMENTAL PROTECTION AGENCY

[FRL-8469-1]

Adaptation for Climate-Sensitive Ecosystems and Resources Advisory Committee (ACSERAC)

AGENCY: U.S. Environmental Protection Agency (U.S. EPA).

ACTION: Notice of Meeting of the U.S. Environmental Protection Agency's Adaptation for Climate-Sensitive Resources Advisory Committee on October 22 and 23, 2007, in Bethesda, Maryland.

SUMMARY: Pursuant to the Federal Advisory Committee Act, Public Law 92-463, as amended (5 U.S.C., App. 2), notification is hereby given that the U.S. Environmental Protection Agency, Office of Research and Development (ORD) will hold a public meeting of the ACSERAC.

DATES: The meeting will be held on October 22 and 23, 2007. The meeting will begin at 9 a.m. on October 22 and October 23, and adjourn on October 23 at 3 p.m. (Eastern Time).

ADDRESSES: The meeting will be held at the Hyatt Regency Bethesda, One Bethesda Metro Center, Bethesda, Maryland 20814. The hotel is accessible on the Metrorail's Red Line at the Bethesda Metro Station.

Public Participation: Members of the public may attend the meeting as observers, and there will be a limited time for comments from the public in the afternoon. Please contact Joanna Foellmer, Designated Federal Official, ACSERAC, no later than October 12 if you wish to make oral comments during the meeting. Requests to make oral comments must be in writing (via e-mail, fax or ground mail) and received no later than one week prior to the meeting. Space is limited, and reservations will be accepted on a first-come, first-served basis. Please send a copy of your presentation by October 15 to Foellmer.Joanna@epa.gov or express mail to Joanna Foellmer, Charles Glover Building, 808 17th Street, NW., 4th Floor, Washington, DC 20006. Regular mail should be addressed to: Joanna Foellmer, Mail Code 8601D, U.S. Environmental Protection Agency, 1200 Pennsylvania Avenue, NW., Washington, DC 20460.

Agenda: This notice announces a meeting of the ACSERAC (Adaptation for Climate-Sensitive Ecosystems and Resources Advisory Committee) in the Washington, DC, metropolitan area. The proposed agenda for the face-to-face meeting includes, but is not limited to, presentations by the SAP 4.4 report's Lead authors and the chapter Lead Authors on adaptation options for selected climate-sensitive ecosystems and resources. In addition, there will be extensive discussion by the ACSERAC with respect to their individual and collective assessment of the SAP 4.4 report. Finally, the ACSERAC will evaluate the external comments received during the public comment period.

The meeting is open to the public. Information on services for the disabled may be obtained by contacting Joanna Foellmer at 202-564-3208. Similarly, a draft agenda may be obtained by an e-mail request to Joanna Foellmer at Foellmer.Joanna@epa.gov or fax to Joanna Foellmer at 202-565-0061.

SUPPLEMENTARY INFORMATION: The ACSERAC supports the U.S. Environmental Protection Agency (EPA) in its participation in the interagency U.S. Climate Change Science Program (CCSP), specifically in implementation of Goal 4 of the Strategic Plan for the CCSP. Goal 4 is to understand “the sensitivity and adaptability of different natural and managed ecosystems and human systems to climate and related global changes.” EPA also helps the CCSP satisfy their requirement to conduct periodic assessments of climate change and variability, as set forth in the Global Change Research Act of 1990. The ACSERAC supports EPA in performing its duties and responsibilities.

The primary responsibility of the ACSERAC is to conduct an expert peer review of the external review draft report entitled: “Synthesis and Assessment Product 4.4: Preliminary Review of Adaptation Options for Climate-Sensitive Ecosystems and Resources,” (SAP 4.4). The ACSERAC will provide advice to the EPA Administrator on the conduct of this study, and within the context of the basic study plan, the ACSERAC will advise on: (1) The specific issues to be addressed; (2) appropriate technical approaches; (3) the usefulness of information provided to decision makers; (4) the quality of the content of the final report; (5) compliance with the Information Quality Act; and (6) other matters important to the successful achievement of the objectives of the study. Additionally, once the Agency completes all responses to comments received from the ACSERAC and the public, the ACSERAC will review the Agency's responses.

EPA has already released the external draft SAP 4.4 report for public review. The Federal Register notice (FR72 46610) announcing a forty-five day public comment period was posted on the U.S. Climate Change Science Program (CCSP) Web site (http://www.climatescience.gov) on August 21, 2007. This report is accessible at http://www.epa.gov/ncea under Recent Additions and is linked to the CCSP Web site.

FOR FURTHER INFORMATION CONTACT: Questions regarding information, registration, and logistics for the ACSERAC should be directed to Joanna Foellmer, telephone: 202-564-3208, e-mail: Foellmer.Joanna@epa.gov, or mailed to: Joanna Foellmer, Mail Code 8601D, U.S. Environmental Protection Agency, 1200 Pennsylvania Avenue, NW., Washington, DC 20460. Express mail should be sent to: Joanna Foellmer, Charles Glover Building, 808 17th Street, NW., 4th Floor, Washington, DC 20006.

Dated: September 11, 2007.
Peter W. Preuss,
Director, National Center for Environmental Assessment, Office of Research and Development.

[FR Doc. E7-18261 Filed 9-14-07; 8:45 am]

BILLING CODE 6560-50-P